DEPARTMENT OF COMMERCE

National Oceanic and Atmospheric Administration

RIN 0648-XC551

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an exempted fishing permit application contains all of the required information and warrants further consideration. This exempted fishing permit would exempt vessels from monkfish days-at-sea possession limits to commercially harvest monkfish during compensation fishing in support of a project funded under the Monkfish Research Set-Aside Program. The primary goal of the research is to determine if monkfish constitute a single or multiple stocks over their coast-wide distribution and would be conducted by the Cornell Cooperative Extension of Suffolk County Marine Program.

Regulations under the Magnuson-Stevens Fishery Conservation and Management Act require publication of this notification to provide interested parties the opportunity to comment on applications for proposed exempted fishing permits.

DATES: Comments must be received on or before June 14, 2013.

ADDRESSES: You may submit written comments by any of the following methods:

• Email: nero.efp@noaa.gov. Include in the subject line “Comments on CCE Monkfish RSA EFP.”

• Mail: John K. Bullard, Regional Administrator, NMFS, Northeast Regional Office, 55 Great Republic Drive, Gloucester, MA 01930. Mark the outside of the envelope “Comments on CCE monkfish RSA EFP.”

• Fax: (978) 281-9135.

FOR FURTHER INFORMATION CONTACT: Jason Berthiaume, Fishery Management Specialist, 978-281-9177.

SUPPLEMENTARY INFORMATION: The Cornell Cooperative Extension (CCE) was awarded 371 days-at-sea (DAS) under the 2012 Monkfish Research Set-Aside (RSA) Program. The primary goal of the study is to determine if monkfish constitute one or more stocks over their coast-wide distribution. CCE is using a genetic approach with microsatellite DNA analysis. Biological samples are being collected throughout the monkfish range. The vessels are using standard commercial gear and are landing monkfish for sale, but the sampling locations are determined by CCE. The research is being conducted under normal monkfish commercial fishing practices. Thirty vessels have been identified by the researcher to conduct compensation fishing under the exempted fishing permit (EFP).

To conduct compensation fishing in support of the project, CCE submitted a complete application for an EFP on April 17, 2012, requesting exemptions from the monkfish DAS possession limits. However, due to the complications resulting from the Endangered Species Act listing of Atlantic sturgeon, an EFP for the project was not approved. To mitigate concerns with Atlantic sturgeon, the applicant modified its EFP application to only conduct compensation fishing in offshore waters and submitted a modified application on March 5, 2013. The modified EFP was approved on May 21, 2013, which authorized participating vessels to fish seaward of 50 fathoms, where Atlantic sturgeon interactions are extremely rare.

However, during the EFP review process, the Northeast Fisheries Science Center published an updated analysis on Atlantic sturgeon abundance estimates, which are substantially higher than previous estimates (Kocik et al. 2013).¹ As a result, the applicant is now requesting that vessels operating under the EFP not be limited to waters deeper than 50 fathoms. This revision would allow compensation fishing to be conducted throughout the entire monkfish range where monkfish fishing is allowed.

¹ Kocik J., Lipsky C, Miller T, Rago P, Shepherd G. 2013. An Atlantic Sturgeon Population Index for ESA Management Analysis. U.S. Dept Commer, Northeast Fish Sci Cent Ref Doc. 13-06; 36 p. Available from: National Marine Fisheries Service, 166 Water Street, Woods Hole, MA 02543-1026, or online at: www.nefsc.noaa.gov/nefsc/publications/.

The revised EFP would exempt vessels from monkfish DAS possession limits in the Northern and Southern Monkfish Fishery Management Areas. Category F vessels would be charged monkfish RSA DAS at a higher pro-rated rate of 2.909:1 RSA DAS for Category A and C vessels and 3.555:1 RSA DAS for Category B and D vessels, consistent with the Monkfish Fishery Management Plan.

Monkfish EFPs that waive possession limits were first issued in 2007, and each year thereafter through 2011. The EFPs were approved to increase operational efficiency and to optimize research funds generated from RSA DAS. To ensure that the amount of monkfish harvested by vessels operating under the EFPs was similar to the amount of monkfish that was anticipated to be harvested under the 500 RSA DAS set-aside by the New England Fishery Management Council, NMFS has used 3,600 lb (1,633 kg) of whole monkfish per RSA DAS. This amount of monkfish was the equivalent of a double possession limit of Permit Category A and C vessels fishing in the SFMA. This was deemed a reasonable approximation because it was reflective of how the standard monkfish commercial fishery operates. It is likely that RSA grant recipients optimize their RSA DAS award by utilizing this possession limit.

CCE developed its RSA proposal and budget in a manner that was consistent with previously approved EFPs. However, prior to submission of the RSA proposal, NMFS implemented Amendment 5 to the Monkfish FMP. Amendment 5 adjusted the tail-to-whole-weight conversion factor from 3.32 to 2.91, which essentially reduced the whole weight possession limits. Because this project was originally awarded DAS in fishing year 2012 and the budget was designed using 3,600 lb (1,633 kg) per DAS, the EFP, if approved, would allow this project to continue operating under this limit until the project's conclusion on April 30, 2014. This project was awarded 371 DAS. Therefore, participating vessels could use up to 371 DAS, or catch up to 900,000 lb (408,233 kg) of whole monkfish, or fish under the EFP until April 30, 2014, whichever comes first.

When applicable, or as required by the regulations, participating vessels may also concurrently use Northeast multispecies DAS while conducting monkfish compensation fishing. All catch of Northeast multispecies would be accounted for under applicable Northeast multispecies quotas.

If approved, the applicant may request minor modifications to the EFP throughout the year. EFP modifications may be granted without further notice if they are deemed essential to facilitate completion of the proposed research and have minimal impacts that do not change the scope or impact of the initially approved EFP request. Any fishing activity conducted outside the scope of the exempted fishing activity would be prohibited.

Authority: 16 U.S.C. 1801 et seq.

Dated: May 24, 2013.
James P. Burgess,
Acting Deputy Director, Office of Sustainable Fisheries, National Marine Fisheries Service.

[FR Doc. 2013-12866 Filed 5-29-13; 8:45 am]

BILLING CODE 3510-22-P